INTERNATIONAL TRADE COMMISSION

[Investigation No. 701-TA-380 (Review)]

Stainless Steel Sheet and Strip From France

AGENCY: United States International Trade Commission.

ACTION: Rescission of five-year review concerning the countervailing duty order on stainless steel sheet and strip from France.

EFFECTIVE DATE: June 25, 2004.

FOR FURTHER INFORMATION CONTACT: Mary Messer (202-205-3193), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record may be viewed on the Commission's electronic docket (EDIS) at http://edis.usitc.gov.

SUPPLEMENTARY INFORMATION: On June 1, 2004, the Commission published notice that it had instituted reviews pursuant to section 751(c) of the Tariff Act of 1930 (19 U.S.C. 1675(c)) (the Act) to determine whether revocation of the countervailing duty and antidumping duty orders on stainless steel sheet and strip from France, Germany, Italy, Japan, Korea, Mexico, Taiwan, and the United Kingdom would be likely to lead to continuation or recurrence of material injury.¹ The countervailing duty order on stainless steel sheet and strip from France, however, was revoked by the Department of Commerce, effective November 7, 2003, in its notice of implementation under Section 129 of the Uruguay Round Agreements Act.² Although the Department of Commerce had also initiated a five-year review of this order on June 1, 2004, we have been notified that the Department of Commerce is publishing concurrently with this notice the rescission of its five-year review on the countervailing duty order on stainless steel sheet and strip in coils from France. Therefore, we are rescinding the five-year review of the countervailing duty order on stainless steel sheet and strip from France. The five-year review of the antidumping duty order on stainless steel sheet and strip from France will continue.

¹ 69 FR 30958 (June 1, 2004).

² 68 FR 64858 (November 17, 2003).

Authority: This notice is published pursuant to section 207.61 of the Commission's rules.

By order of the Commission.
Issued: June 21, 2004.
Marilyn R. Abbott,
Secretary to the Commission.

[FR Doc. 04-14491 Filed 6-24-04; 8:45 am]

BILLING CODE 7020-02-P